DEPARTMENT OF DEFENSE

GENERAL SERVICES ADMINISTRATION

NATIONAL AERONAUTICS AND SPACE ADMINISTRATION

48 CFR Part 53

[FAC 2022-01; FAR Case 2018-018; Item I; Docket No. FAR-2018-0018, Sequence No. 1]

RIN 9000-AN76

Federal Acquisition Regulation: Revision of Definition of “Commercial Item”; Correction

AGENCY: Department of Defense (DoD), General Services Administration (GSA), and National Aeronautics and Space Administration (NASA).

ACTION: Final rule; correction.

SUMMARY: DoD, GSA, and NASA published a final rule amending the Federal Acquisition Regulation (FAR) to implement a section of the John S. McCain National Defense Authorization Act for Fiscal Year 2019 to change the definition of “commercial item.” This document corrects an erroneous instruction in that rule.

DATES: Effective December 6, 2021.

FOR FURTHER INFORMATION CONTACT: Ms. Zenaida Delgado, Procurement Analyst, at 202-969-7207 or by email at zenaida.delgado@gsa.gov, for clarification of content. For information pertaining to status or publication schedules, contact the Regulatory Secretariat Division at 202-501-4755 or GSARegSec@gsa.gov. Please cite FAC 2022-01, FAR Case 2018-018.

SUPPLEMENTARY INFORMATION: DoD, GSA, and NASA are correcting an amendatory instruction under part 53, section 53.213.

In FR Doc. 2021-22144 appearing on pages 61017-61038 in the issue of November 4, 2021, make the following correction:

53.213 [Corrected]

1. On page 61037, in the third column, Instruction 239, paragraph b.i. for section 53.213, is corrected to read:

“i. Removing the first instance of the term “(Rev. 2/2012)” and adding “(Rev. NOV 2021)” in its place; and”.

Janet Fry,
Director, Federal Acquisition Policy Division, Office of Governmentwide Acquisition Policy, Office of Acquisition Policy, Office of Governmentwide Policy.

[FR Doc. 2021-25842 Filed 11-24-21; 8:45 am]

BILLING CODE 6820-EP-P